DEPARTMENT OF LABOR

Employee Benefits Security Administration

Agency Information Collection Activities; Announcement of OMB Approvals

AGENCY: Employee Benefits Security Administration, Department of Labor.

ACTION: Notice.

SUMMARY: The Employee Benefits Security Administration (EBSA) announces that the Office of Management and Budget (OMB) has approved certain collections of information, listed in the Supplementary Information below, following EBSA's submission of requests for such approvals under the Paperwork Reduction Act of 1995 (PRA) (44 U.S.C. 3501 et seq.). This notice describes the information collections that have been approved or re-approved, their OMB control numbers, and their current expiration dates.

FOR FURTHER INFORMATION CONTACT: G. Christopher Cosby, Office of Policy and Research, Employee Benefits Security Administration, U.S. Department of Labor, 200 Constitution Avenue NW., Room N-5718, Washington, DC 20210. Telephone: (202) 693-8410; Fax: (202) 219-4745. These are not toll-free numbers.

SUPPLEMENTARY INFORMATION: The PRA and its implementing regulations require Federal agencies to display OMB control numbers and inform respondents of their legal significance after OMB has approved an agency's information collections. In accordance with those requirements, EBSA hereby notifies the public that the following information collections have been re-approved by OMB following EBSA's submission of an information collection request (ICR) for extension of a prior approval:

• OMB Control No. 1210-0059, Employee Retirement Income Security Act Prohibited Transaction Exemption 1986-128 For Securities Transactions Involving Employee Benefit Plans and Broker-Dealers. The expiration date for this information collection is March 31, 2018.

• OMB Control No. 1210-0066, Employee Retirement Income Security Act Procedure 1976-1; Advisory Opinion Procedure. The expiration date for this information collection is August 31, 2018.

• OMB Control No. 1210-0083, PTE 1990-1; Insurance Company Pooled Separate Accounts. The expiration date for this information collection is December 31, 2018.

• OMB Control No. 1210-0084, Employee Retirement Income Security Act of 1974 Technical Release 91-1. The expiration date for this information collection is August 31, 2018.

• OMB Control No. 1210-0091, Settlement Agreements Between a Plan and a Party in Interest. The expiration date for this information collection is December 31, 2018.

• OMB Control No. 1210-0110, Annual Information Return/Report of Employee Benefit Plan. The expiration date for this information collection is August 31, 2018.

• OMB Control No. 1210-0112, Furnishing Documents to the Secretary of Labor on Request Under ERISA Section 104(a)(6). The expiration date for this information collection is April 30, 2018.

• OMB Control No. 1210-0114, Disclosures by Insurers to General Account Policyholders. The expiration date for this information collection is August 31, 2018.

• OMB Control No. 1210-0115, Prohibited Transaction Class Exemption for Cross-Trades of Securities by Index and Model-Driven Funds (PTCE 2002-12). The expiration date for this information collection is December 31, 2018.

• OMB Control No. 1210-0117, Registration for EFAST-2 Credentials. The expiration date for this information collection is September 30, 2018.

• OMB Control No. 1210-0118, Voluntary Fiduciary Correction Program. The expiration date for this information collection is December 31, 2018.

• OMB Control No. 1210-0121, Consent to Receive Employee Benefit Plan Disclosures Electronically. The expiration date for this information collection is March 31, 2018.

• OMB Control No. 1210-0122, Employee Retirement Income Security Act Blackout Period Notice. The expiration date for this information collection is August 31, 2018.

• OMB Control No. 1210-0124, Acquisition and Sale of Trust Real Estate Investment Trust Shares by Individual Account Plans Sponsored by Trust Real Estate Investment Trusts. The expiration date for this information collection is December 31, 2018.

• OMB Control No. 1210-0127, Abandoned Individual Account Plan Termination. The expiration date for this information collection is December 31, 2018.

• OMB Control No. 1210-0133, Employee Retirement Income Security Act Section 408(b)(2) Regulation. The expiration date for this information collection is May 31, 2018.

• OMB Control No. 1210-0144, Affordable Care Act Internal Claims and Appeals and External Review Procedures for Non-Grandfathered Plans. The expiration date for this information collection is March 31, 2019.

• OMB Control No. 1210-0147, Affordable Care Act Section 2715 Summary Disclosures. The expiration date for this information collection is April 30, 2019.

EBSA hereby notifies the public that the following information collections have been approved by OMB following EBSA's submission of an information collection request (ICR) for a revision of a currently approved collection:

• OMB Control No. 1210-0126, Annual Funding Notice for Defined Benefit Pension Plans. The expiration date for this information collection is April 30, 2018.

• OMB Control No. 1210-0150, Coverage of Certain Preventive Services Under the Affordable Care Act. The expiration date for this information collection is September 30, 2018.

EBSA hereby notifies the public that the following new information collections have been approved by OMB following EBSA's submission of an information collection request (ICR):

• OMB Control No. 1210-0152, Coverage of Certain Preventive Services Under the Affordable Care Act—For-Profit Entities. The expiration date for this information collection is September 30, 2018.

• OMB Control No. 1210-0154, Focus Groups for Evaluating the Effectiveness of Employee Retirement Income Security Act Section 408(b)(2) Disclosure Requirements. The expiration date for this information collection is January 31, 2018.

The PRA provides that an agency may not conduct or sponsor, and a person is not required to respond to, a collection of information unless it displays a currently valid OMB control number. Publication of this notice satisfies this requirement with respect to the above-listed information collections, as provided in 5 CFR 1320.5(b)(2)(C).

Joseph S. Piacentini,
Director, Office of Policy and Research, Employee Benefits Security Administration.

[FR Doc. 2016-09713 Filed 4-26-16; 8:45 am]

BILLING CODE 4510-29-P